DEPARTMENT OF TRANSPORTATION

National Highway Traffic Safety Administration

[Docket No. NHTSA-2016-0141; Notice 1]

Spartan Motors USA, Inc., Receipt of Petition for Decision of Inconsequential Noncompliance

AGENCY: National Highway Traffic Safety Administration (NHTSA), Department of Transportation (DOT).

ACTION: Receipt of petition.

SUMMARY: Spartan Motors USA, Inc. (Spartan), has determined that certain model year (MY) 2017 Spartan Emergency Response Metro Star motor vehicles do not fully comply with Federal Motor Vehicle Safety Standard (FMVSS) No. 120, Tire selection and rims and motor home/recreation vehicle trailer load carrying capacity information for motor vehicles with a GVWR of more than 4,536 kilograms (10,000 pounds). Spartan filed a noncompliance information report dated December 6, 2016. Spartan also petitioned NHTSA on January 4, 2017, for a decision that the subject noncompliance is inconsequential as it relates to motor vehicle safety.

DATES: The closing date for comments on the petition is May 11, 2017.

ADDRESSES: Interested persons are invited to submit written data, views, and arguments on this petition. Comments must refer to the docket and notice number cited in the title of this notice and submitted by any of the following methods:

• Mail: Send comments by mail addressed to U.S. Department of Transportation, Docket Operations, M-30, West Building Ground Floor, Room W12-140, 1200 New Jersey Avenue SE., Washington, DC 20590.

• Hand Delivery: Deliver comments by hand to U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by logging onto the Federal Docket Management System (FDMS) Web site at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the Internet at https://www.regulations.gov by following the online instructions for accessing the dockets. The docket ID number for this petition is shown in the heading of this notice.

DOT's complete Privacy Act Statement is available for review in a Federal Register notice published on April 11, 2000, (65 FR 19477-78).

SUPPLEMENTARY INFORMATION: I. Overview: Spartan Motors USA, Inc. (Spartan), has determined that certain model year (MY) 2017 Spartan Emergency Response Metro Star motor vehicles do not fully comply with paragraph S5.2(b) of Federal Motor Vehicle Safety Standard (FMVSS) No. 120, Tire selection and rims and motor home/recreation vehicle trailer load carrying capacity information for motor vehicles with a GVWR of more than 4,536 kilograms (10,000 pounds). Spartan filed a noncompliance report dated December 6, 2016, pursuant to 49 CFR part 573, Defect and Noncompliance Responsibility and Reports. Spartan also petitioned NHTSA on January 4, 2017, pursuant to 49 U.S.C. 30118(d) and 30120(h) and 49 CFR part 556, for an exemption from the notification and remedy requirements of 49 U.S.C. Chapter 301 on the basis that this noncompliance is inconsequential as it relates to motor vehicle safety.

This notice of receipt of Spartan's petition is published under 49 U.S.C. 30118 and 30120 and does not represent any agency decision or other exercise of judgment concerning the merits of the petition.

II. Vehicles Involved: Approximately 19 MY 2017 Spartan Emergency Response Metro Star motor vehicles manufactured between September 6, 2016, and October 24, 2016, are potentially involved.

III. Noncompliance: Spartan explains that the noncompliance is that the wheels on the subject vehicles incorrectly identify the rim size as 24.5″ x 8.25″ instead of 22.5″ x 8.25″, and therefore do not meet the requirements of paragraph S5.2(b) of FMVSS No. 120.

IV. Rule Text: paragraph S5.2 of FMVSS No. 120 states:

S5.2 Rim marking. Each rim or, at the option of the manufacturer in the case of a single-piece wheel, wheel disc shall be marked with the information listed in paragraphs (a) through (e) of this paragraph, in lettering not less than 3 millimeters high, impressed to a depth or, at the option of the manufacturer, embossed to a height of not less than 0.125 millimeters. . .

(b) The rim size designation, and in case of multipiece rims, the rim type designation. For example: 20 x 5.50, or 20 x 5.5.

V. Summary of Spartan's Petition: Spartan described the subject noncompliance and stated its belief that the noncompliance is inconsequential as it relates to motor vehicle safety.

In support of its petition, Spartan provided the following: Chassis cabs affected by this condition are manufactured in two or more stages. While in general, Spartan is the incomplete vehicle manufacturer, in this case, Spartan provides a label that contains the requirements identified in 49 CFR 567.5(a)(2)(iv), which states that a label must be affixed to an incomplete vehicle that contains the “GROSS AXLE WEIGHT RATING” or “GVWR”, followed by the appropriate value in kilograms and (pounds) for each axle, identified in order from front to rear (e.g., front, first intermediate, second intermediate, rear). The ratings for any consecutive axles having identical gross axle weight ratings when equipped with tires having the same tire size designation may be stated as a single value, with the label indicating to which axles the ratings apply. Similar information must be included in the incomplete vehicle document or IVD that must be furnished by the incomplete vehicle manufacturer, as required by 49 CFR 568.4(a)(5).

While the actual wheel stamping may be 24.5, the physical size (outside diameter) is 22.5. If a service provider were to reference the rim size of the incorrectly stamped rim, and attempt to install a tire with an inside diameter of 24.5, it would be too large for the 22.5 size rim and thus not fit. Given the label being provided and the construction details sheet provided in accordance with NFPA® 1901 Standard for Automotive Fire Apparatus 2016 edition, Spartan believes the noncompliance is inconsequential as it relates to motor vehicle safety, and requests that their petition to be exempted from providing notification of the noncompliance, as required by 49 U.S.C. 30118, and a remedy for the noncompliance, as required by 49 U.S.C. 30120, should be granted.

To view Spartan's petition analyses in its entirety you can visit https://www.regulations.gov by following the online instructions for accessing the dockets and by using the docket ID number for this petition shown in the heading of this notice.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that Spartan no longer controlled at the time it determined that the noncompliance existed. However, any decision on this petition does not relieve vehicle distributors and dealers of the prohibitions on the sale, offer for sale, or introduction or delivery for introduction into interstate commerce of the noncompliant vehicles under their control after Spartan notified them that the subject noncompliance existed.

Authority: (49 U.S.C. 30118, 30120: delegations of authority at 49 CFR 1.95 and 501.8).

Jeffrey M. Giuseppe,
Director, Office of Vehicle Safety Compliance.

[FR Doc. 2017-07166 Filed 4-10-17; 8:45 am]

BILLING CODE 4910-59-P